DEPARTMENT OF HEALTH AND HUMAN SERVICES

National Institutes of Health

National Institute of Environmental Health Sciences (NIEHS); Notice of Meeting

Pursuant to the NIH Reform Act of 2006 (42 U.S.C. 281 (d)(4)), notice is hereby given that the National Institute of Environmental Health Sciences (NIEHS) Division of Extramural Research and Training (DERT) will host a webinar to enable public discussion of the Division's proposal to reorganize its extramural program. The proposal seeks to fully implement the NIEHS Strategic Plan within the Division.

Organizing Institute: National Institute of Environmental Health Sciences.

Dates and Times: June 6, 2013 from 12-1 p.m.

Place: This meeting will be conducted by webinar.

Agenda: A public discussion on the proposed reorganization plans for DERT/NIEHS.

Contact Person: Nicole Popovich, National Institute of Environmental Health Sciences, Division of Extramural Research and Training, PO Box 12233, MSC K3-13, Durham, NC 27560, nicolepm@niehs.nih.gov, 919-541-7725.

Members of the public wishing to participate must RSVP to dertpublicmeeting@niehs.nih.gov before June 6, 2013 to receive instructions for joining the webinar. Individuals with disabilities who need accommodation to participate in this event should contact Nicole Popovich.

Dated: May 22, 2013.
Joellen Austin,
Executive Officer, National Institute of Environmental Health Sciences, National Institutes of Health.

[FR Doc. 2013-12937 Filed 5-30-13; 8:45 am]

BILLING CODE 4140-01-P